DEPARTMENT OF AGRICULTURE

Animal and Plant Health Inspection Service

[Docket No. 04-007-1]

Process for Foreign Animal Disease Status Evaluations; Availability of Informational Document

AGENCY: Animal and Plant Health Inspection Service, USDA.

ACTION: Notice of availability.

SUMMARY: We are advising the public that the Animal and Plant Health Inspection Service (APHIS) has prepared an informational document that describes the process APHIS follows when conducting foreign animal disease status evaluation, regionalization, risk analysis, and related rulemaking. We are making this informational document available to the public.

ADDRESSES: You may request a copy of the informational document by calling or writing to the person listed under FOR FURTHER INFORMATION CONTACT. The informational document is being posted on the Internet as a public resource. Instructions for accessing the informational document on the Internet are provided below under SUPPLEMENTARY INFORMATION.

Reading Room: You may also read the informational document in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: APHIS documents published in the Federal Register, and related information, including the names of organizations and individuals who have commented on APHIS dockets, are available on the Internet at http://www.aphis.usda.gov/ppd/rad/webrepor.html.

FOR FURTHER INFORMATION CONTACT: Dr. Anne Goodman, Supervisory Staff Officer, Regionalization Evaluation Services, Sanitary Trade Issues Team, National Center for Import and Export, VS, APHIS, 4700 River Road Unit 38, Riverdale, MD 20737-1231; (301) 734-8667.

SUPPLEMENTARY INFORMATION:

Background

The Animal and Plant Health Inspection Service (APHIS) of the U.S. Department of Agriculture (the Department) regulates the importation of animals and animal products to guard against the introduction of animal diseases into this country. The regulations pertaining to the importation and exportation of animals and animal products are set forth in the Code of Federal Regulations (CFR), title 9, chapter I, subchapter D (9 CFR parts 91 through 99).

On October 28, 1997, APHIS published a notice in the Federal Register (62 FR 56027-56033, Docket No. 94-106-8) in which we informed the public we were adopting a policy of recognizing regions, and levels of risk among those regions, with regard to the importation of animals and animal products. That same day, we published in the Federal Register a final rule (62 FR 56000-56026, Docket No 94-106-9) in which we established procedures (1) for recognizing regions, and (2) by which regions may request permission to export animals and animal products into the United States under specified conditions, based on the regions' disease status.

The procedures set forth in our October 1997 final rule are the procedures that we use today in accepting and evaluating requests for regionalization. When a chief veterinary officer (CVO) of a foreign region requests consideration for regionalization and permission to import animals and animal products into the United States, we ask that the request include information about the region's animal disease status, veterinary infrastructure, livestock demographics, and degree of physical or other separation from regions of higher disease risk. (A list of the topics for which we require information is included in the regulations in 9 CFR 92.2.) Using the information provided by the CVO of the region, along with information available to us from other sources, we use a science-based approach to evaluate whether such importations can be safely allowed, either with or without risk mitigation measures.

As part of our process of considering a request for regionalization or other disease status recognition, we make available to the public the information upon which we conducted our evaluation. This information is posted to the APHIS Veterinary Services Web site and is discussed in any rulemaking documents we publish in the Federal Register regarding our evaluation of the request.

However, until now we have not made available to the public a document that describes the way in which APHIS applies risk analysis to the decisionmaking process for regionalization. We believe that, in order for our evaluation process to be transparent to both domestic entities and individuals, as well as to our trading partners, a description of that process should be made available to the public. The purpose of this notice is to inform the public that such a document is available and may be accessed by several means (discussed below).

The document, titled “Process for Foreign Animal Disease Status Evaluations, Regionalization, Risk Analysis, and Rulemaking,” describes the following:

• The process for initiation of an evaluation;

• The composition of the review teams that participate in various components of the evaluation;

• The role of site visits in evaluations;

• The types of risk analyses that are conducted and the situations in which different types of analyses are used;

• The assignment of responsibility for conduct of risk analysis;

• The basis for recommendations to APHIS management regarding requests;

• The regulatory process APHIS follows to seek public comment on recommendations to recognize regions and allow the requested importations; and

• Time considerations from initial request to final rulemaking.

Accessing the Informational Document on the Internet

The informational document is available on the Internet at http://www.aphis.usda.gov/vs/ncie/reg-request.html. At the bottom of that Web site page, click on http://www.aphis.usda.gov/vs/ncie/reg-request.html.

Authority: 7 U.S.C. 1622 and 8301-8317; 21 U.S.C. 136 and 136a; 31 U.S.C. 9701; 7 CFR 2.22, 2.80, and 371.4.

Done in Washington, DC, this 20th day of July, 2004.
W. Ron DeHaven,
Administrator, Animal and Plant Health Inspection Service.

[FR Doc. 04-16926 Filed 7-23-04; 8:45 am]

BILLING CODE 3410-34-P